SOCIAL SECURITY ADMINISTRATION

Agency Information Collection Activities: Comment Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer at the following addresses:

(OMB)

Office of Management and Budget, Attn: Desk Officer for SSA, New Executive Office Building, Room 10230, 725 17th St., NW., Washington, DC 20503

(SSA)

Social Security Administration, DCFAM, Attn: Frederick W. Brickenkamp, 1-A-21 Operations Bldg., 6401 Security Blvd., Baltimore, MD 21235

The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Chinese Custom Marriage Statement; Statement Regarding Marriage—0960-0086. The information collected on Forms SSA-1344 and SSA-1345 is used to determine whether the spouse/claimant is (or was) legally married to the numberholder for the purpose of paying Social Security Benefits. The respondents are individuals who were married in a Chinese custom marriage.

| SSA-1344 | SSA-1345
Number of Respondents | 10 | 10
Frequency of Response | 1 | 1
Average Burden Per Response (in minutes) | 14 | 14
Estimated Annual Burden (in hours) | 2.3 | 2.3

2. State Agency Ticket Assignment Form—0960-NEW. The information collected on this form will be used by SSA's contracted Program Manager (PM) to perform the task of assigning beneficiaries' tickets and monitoring the use of tickets under the Ticket to Work and Self-Sufficiency Program. The State Vocational Rehabilitation (VR) agency answers the questions and the beneficiary reviews the data and if in agreement will sign the form acknowledging their Ticket assignment. The respondents are State VR agencies.

Number of Respondents: 21.

Frequency of Response: 4,048 annually per respondent.

Average Burden Per Response: 3 minutes.

Estimated Annual Burden: 4,250 hours.

Please note that the Ticket to Work Program is being implemented in stages. The above represents the initial phase of the program with 13 participating states that includes 21 State VR agencies. As the program continues to be phased in, each initial program year will result in a large number of new tickets for the participating State VRs because existing clients will also be brought into the program.

3. Statement for Determining Continuing Eligibility, Supplemental Security Income Payment—0960-0145—Forms SSA-8202-F6 and SSA-8202-OCR-SM. SSA uses form SSA-8202-F6 to conduct low- and middle-error-profile (LEP-MEP) telephone or face-to-face redetermination (RZ) interviews with Supplemental Security Income (SSI) recipients and representative payees. The information collected during the interview is used to determine whether SSI recipients have met and continue to meet all statutory and regulatory requirements for SSI eligibility and whether they have been and are still receiving the correct payment amount. Form SSA-8202-OCR-SM (Optical Character Recognition-Self Mailer) collects information similar to that collected on Form SSA-8202-F6. However it is used exclusively in LEP RZ cases on a 6-year cycle. The respondents are recipients of SSI benefits or their representative payees.

| Respondents | Frequency of response | Average burden per response (in minutes) | Estimated annual burden (in hours)
SSA-8202-F6 | 920,000 | 1 | 18 | 276,000
SSA-8202-OCR-SM | 800,000 | 1 | 9 | 120,000
Total Burden |  |  |  | 396,000

4. Statement for Determining Continuing Eligibility for Supplemental Security Income Payments—0960-0416. SSA uses form SSA-8203-BK for high-error-profile (HEP) redeterminations. The information is normally completed in field offices by personal contact (face-to-face or telephone interview) using the automated Modernized SSI Claim System (MSSICS). The paper form is used only when a systems limitation prevents the interview from being completed on MSSICS. When the paper form is used, a tear-off sheet (Pages 7 and 8 of the form) is given to recipients at the conclusion of a face-to-face interview or is mailed to recipients at the completion of the telephone interview. The tear-off includes information about how, what, when, where, and why SSI recipients report when there is a change in income, resources, or living arrangements. The respondents are recipients of title XVI SSI benefits.

Number of Respondents: 920,000.

Frequency of Response: 1.

Average Burden Per Response: 18 minutes.

Estimated Annual Burden: 276,000 hours.

5. Summary of Evidence—0960-0430. The information on Form SSA-887 is used by State Disability Determination Services (DDS) to provide claimants with a list of medical/vocational reports pertaining to their disability. The form will aid claimants in reviewing the evidence in their folders and will be used by hearing officers in preparing for and conducting hearings. The respondents are State DDSs that make disability determinations.

Number of Respondents: 49,000.

Frequency of Response: 1.

Average Burden Per Response: 15 minutes.

Estimated Average Burden: 12,250 hours.

6. Notice Regarding Substitution of Party Upon Death of Claimant— Reconsideration of Disability Cessation—0960-0351. The Social Security Administration uses the form SSA-770 to obtain information from substitute parties regarding their intention to pursue the appeals process for an individual who has died. The respondents are such parties.

Number of Respondents: 1,200.

Frequency of Response: 1.

Average Burden Per Response: 10 minutes.

Estimated Annual Burden: 200 hours.

Dated: July 9, 2001.
Frederick W. Brickenkamp,
Reports Clearance Officer.

[FR Doc. 01-17539 Filed 7-13-01; 8:45 am]

BILLING CODE 4191-02-P